DEPARTMENT OF THE INTERIOR

Fish and Wildlife Service

[FWS-R4-R-2008-N0213; 40136-1265-0000-S3]

Merritt Island National Wildlife Refuge

AGENCY: Fish and Wildlife Service, Interior.

ACTION: Notice of availability of the Final Comprehensive Conservation Plan and Finding of No Significant Impact.

SUMMARY: The Fish and Wildlife Service announces that a Final Comprehensive Conservation Plan (CCP) and Finding of No Significant Impact (FONSI) for Merritt Island National Wildlife Refuge is available for distribution. This CCP was prepared pursuant to the National Wildlife Refuge System Improvement Act of 1997, and in accordance with the National Environmental Policy Act of 1969, and describes how the refuge will be managed for the next 15 years.

ADDRESSES: A copy of the CCP/FONSI is available on compact diskette or hard copy, and you may obtain a copy by writing: Merritt Island National Wildlife Refuge (CCP), P.O. Box 2683, Titusville, Florida 32781. You may also access and download a copy of the CCP/FONSI from the Service's Web site address: http://southeast.fws.gov/planning/.

FOR FURTHER INFORMATION CONTACT: Ron Hight, Telephone: 321/861-0667.

SUPPLEMENTARY INFORMATION: With this notice, we finalize the CCP process for Merritt Island National Wildlife Refuge begun as announced in the Federal Register on August 26, 2002 (67 FR 54816). We released the Draft CCP/EA to the public, announcing and requesting comments for 60 days in a notice of availability in the Federal Register on December 27, 2006 (71 FR 77783).

Purpose of the Refuge: Merritt Island National Wildlife Refuge was established in 1963, to protect migratory birds through an agreement with the National Aeronautics and Space Administration, as an overlay of John F. Kennedy Space Center. The over 140,000 acres of beaches and dunes, estuarine waters, forested and non-forested wetlands, impounded wetlands, and upland shrub lands and forests of the refuge support over 500 wildlife species and over 1,000 plant species, including a variety of waterfowl, shorebirds, and neotropical migratory birds.

Alternatives and Preferred Alternative: The Draft CCP/EA addressed several priority issues raised by the Service, the Florida Fish and Wildlife Conservation Commission, other governmental partners, and the public. These issues included the spread of exotic, invasive, and nuisance species; the threats to threatened, endangered, and other imperiled species; the threats and impacts of an ever-increasing human population and the associated demand for public use activities; the management/maintenance of impounded wetlands; the coordination between intergovernmental partners; and the decline in migratory birds and their habitats.

To address these priority issues, four alternatives were developed and evaluated during the planning process.

Alternative A continued current refuge management activities and programs. Under this alternative, the refuge would continue to maintain 550 Florida scrub jay family groups across 15,000 acres, 11-13 nesting pairs of bald eagles, and 6.3 miles of sea turtle nesting beaches.

Alternative B expanded refuge management actions on needs of threatened and endangered species. The refuge would aggressively manage for Florida scrub jays, restoring and maintaining 19,000-20,000 acres in optimal condition to support 900 family groups. Habitat management activities would support the number of nesting pairs of bald eagles to expand to 20, with increased protection of nest sites, development of artificial nesting platforms, and increased cultivation of future nest areas and nesting trees.

Alternative C focused refuge management actions on the needs of migratory birds. Current management activities for threatened and endangered species would remain the same or would be decreased. The refuge would manage intensively for waterfowl, increasing the acres of impounded wetlands managed to over 16,000 acres and annually supporting targets of 250 breeding pairs of mottled duck, 60,000 lesser scaup, 25,000 dabbling ducks, and 38,000 diving ducks. The refuge would also intensively manage for shorebirds, increasing to over 5,000 acres managed in impounded wetlands.

Alternative D, the Service's preferred alternative, takes a more landscape view of the refuge and its resources, focusing refuge management on wildlife and habitat diversity. The refuge will support 500-650 Florida scrub jay family groups with 350-500 territories in optimal conditions across 15,000-16,000 acres. With active management, the refuge will support 11-15 nesting pairs of bald eagles; maintain 6.3 miles of sea turtle nesting beaches; and maintain 100 acres of habitat for the southeastern beach mouse, while the refuge population will serve as a source for reintroduction of the beach mouse to other sites. Manatee-focused management will be re-established on the refuge. The refuge will manage 15,000-16,000 acres in impounded wetlands with a waterfowl focus and will support targets of 250 breeding pairs of mottled ducks, 60,000 lesser scaup, 25,000 dabbling ducks, and 38,000 other diving ducks. Visitor services, programs, and messages will be focused on wildlife and habitat diversity, while also including threatened and endangered species, migratory birds, and climate change.

The actions outlined in the CCP and in two included step-down plans provide direction and guidance for management of Merritt Island National Wildlife Refuge. Successful implementation will depend on coordination and partnerships between the public, the Service, and other governmental agencies.

Authority: This notice is published under the authority of the National Wildlife Refuge System Improvement Act of 1997, Public Law 105-57.

Dated: June 29, 2007.
Cynthia K. Dohner,
Acting Regional Director.
Editorial Note: This document was received in the Office of the Federal Register on August 5, 2008.

[FR Doc. E8-18411 Filed 8-11-08; 8:45 am]

BILLING CODE 4310-55-P